DEPARTMENT OF LABOR

Office of the Secretary

Submission for OMB Review; Comment Request

January 2, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ({202} 693-4127 or by E-mail to Kurz-Karin@dol.gov). To obtain documentation for ESA, MSHA, OSHA, and VETS contact Darrin King ({202} 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ({202} 395-7316), on or before February 9, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Employment and Training Administration.

Title: Benefit Accuracy Measurement.

OMB Number: 1205-0245.

Affected Public: State, Local, or Tribal Govt.; Federal Government; Individuals or households; Business or other for-profit; Not-for-profit institutions; Farms.

Number of Respondents: 52.

Total Number of Responses: 47,160.

Estimated Time Per Respondent: 4,917 Hours.

Total Burden Hours: 255,694.

Total annualized capital/startup costs: $336,300.

Total annual costs (operating/maintaining systems or purchasing services): $106,000.

Description: The Department of Labor requests approval to revise the Benefit Accuracy Measurement (BAM) program (formerly known as Benefits Quality Control or BQC) to (1) measure the accuracy of denied claims for Unemployment Compensation (UC) as part of the existing BAM program, which currently includes only paid UC claims; and (2) include interstate claims in the BAM samples of paid claims.

Type of Review: Extension of a currently approved collection.

Agency: Employment and Training Administration.

Title: Unemployment Compensation for Former Federal Employees Handbook No. 391.

OMB Number: 1205-0179.

Affected Public: State, Local, and Tribal Govt.; Federal Government; Individuals or households.

Form No. | Number of respondents | Frequency | Total responses | Average minutes per response | Est. total burden hours
ETA-931 | 78,000 | On Occasion | 78,000 | .05 | 65
ETA-931A | 19,500 | On Occasion | 19,500 | .05 | 16
ETA-933 | 78,000 | On Occasion | 78,000 | .05 | 104
ETA-934 | 3,760 | On Occasion | 3,760 | .05 | 3
ETA-935 | 20,680 | On Occasion | 20,680 | .05 | 17
ETA-936 | 9,400 | On Occasion | 9,400 | .05 | 8
ETA-939 | 75 | On Occasion | 75 | 1.75 | 2
ETA-8-32 | 53 | Twice | 106 | .08 | .14
Total | 209,468 |  | 209,521 | .10 | 216

Total annualized capital/startup costs: $0.

Total annual costs (operating/maintaining systems or purchasing services): $0.

Description: Federal law (U.S.C. 8501-8509) provides unemployment insurance protection to former or partially unemployed Federal civilian employees. The forms continued throughout the Handbook are used in conjunction with the provision of this benefit assistance.

Ira L. Mills,
Departmental Clearance Officer.

[FR Doc. 01-729 Filed 1-9-01; 8:45 am]

BILLING CODE 4510-30-M